ENVIRONMENTAL PROTECTION AGENCY

40 CFR Part 52

[EPA-R03-OAR-2010-0124; FRL-9211-5]

Approval and Promulgation of Air Quality Implementation Plans; Delaware; Limiting Emissions of Volatile Organic Compounds From Consumer Products

AGENCY: Environmental Protection Agency (EPA).

ACTION: Final rule.

SUMMARY: EPA is approving a State Implementation Plan (SIP) revision submitted by the State of Delaware. The revision amends existing Section 2.0—Consumer Products to Delaware's Regulation 1141 (formerly SIP Regulation No. 41)—Limiting Emissions of Volatile Organic Compounds from Consumer and Commercial Products. This action is being taken under the Clean Air Act (CAA).

DATES: Effective Date: This final rule is effective on November 19, 2010.

ADDRESSES: EPA has established a docket for this action under Docket ID Number EPA-R03-OAR-2010-0124. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, Pennsylvania 19103. Copies of the State submittal are available at the Delaware Department of Natural Resources & Environmental Control, 89 Kings Highway, P.O. Box 1401, Dover, Delaware 19901.

FOR FURTHER INFORMATION CONTACT: Gregory Becoat, (215) 814-2036, or by e-mail at becoat.gregory@epa.gov.

SUPPLEMENTARY INFORMATION:

I. Background

On June 18, 2010 (75 FR 34671), EPA published a notice of proposed rulemaking (NPR) for the State of Delaware. The NPR proposed approval of the Delaware SIP revision that amends Regulation 1141/SIP Regulation No. 41— Limiting Emissions of Volatile Organic Compounds from Consumer and Commercial Products. The SIP revision amends existing Section 2.0—Consumer Products by adding the sale, distribution, and manufacturing of 23 new categories of consumer products and product types to the list of products already regulated by this rule. These categories include personal hygiene and grooming, home cleaning, and cleaning of electrical and electronic equipment. EPA received no comments on the NPR to approve Delaware's SIP revision. The formal SIP revision was submitted by the State of Delaware on June 22, 2009.

II. Summary of SIP Revision

Regulation 1141 (formerly SIP Regulation No. 41), Section 2.0 establishes applicability to any person who sells, supplies, offers for sale, uses or applies, or manufactures for sale consumer products in the State of Delaware. The rule does not apply to a retailer who sells, supplies, or offers for sale in the State of Delaware a particular consumer product that does not comply with the Volatile Organic Compounds (VOC) standards, provided that retailer demonstrates that the manufacturer or distributor of that product mislead that retailer into believing that the product did comply with the VOC standards. The rule sets compliance dates for specific VOC content limits in percent VOCs by weight for consumer products and lists exemptions from the VOC content limits. The rule also contains requirements for the following consumer products: (1) Products requiring dilution, (2) ozone depleting compounds, (3) aerosols adhesives, (4) antiperspirants or deodorants, (5) charcoal lighter materials, and (6) floor wax strippers. Regulation 1141 provides alternative control plans (ACP) by allowing responsible parties the option to voluntarily enter into separate ACP agreements for the consumer products mentioned above. In addition, the rule contains the following: (1) Criteria for innovative products exemptions and requirements for waiver requests, (2) administrative requirements for labeling and reporting, and (3) test methods for demonstrating compliance. Further details of Delaware's regulation revisions can be found in a Technical Support Document prepared for the June 18, 2010 proposed rulemaking action.

III. Final Action

EPA is approving the Delaware SIP revision that amends existing Section 2.0—Consumer Products to Delaware's Regulation 1141 (formerly SIP Regulation No. 41)—Limiting Emissions of Volatile Organic Compounds from Consumer and Commercial Products.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by December 20, 2010. Filing a petition for reconsideration by the Administrator of this final rule pertaining to Delaware's amendment to Section 2.0—Consumer Products of Delaware's Regulation No. 1141 (formerly SIP Regulation No. 41), does not affect the finality of this action for the purposes of judicial review nor does it extend the time within which a petition for judicial review may be filed, and shall not postpone the effectiveness of such rule or action.

List of Subjects in 40 CFR Part 52

Environmental protection, Air pollution control, Incorporation by reference, Ozone, Reporting and recordkeeping requirements, Volatile organic compounds.

Authority: 42 U.S.C. 7401 et seq.

Dated: September 17, 2010.
W.C. Early,
Acting Regional Administrator, Region III.

40 CFR part 52 is amended as follows:

PART 52—[AMENDED]

1. The authority citation for part 52 continues to read as follows:

Authority: 42 U.S.C. 7401 et seq.

Subpart I—Delaware

2. In § 52.420, the table in paragraph (c) is amended by revising Regulation 1141, Section 2.0 to read as follows:

§ 52.420 Identification of plan.

* * * * *

(c) * * *

EPA-Approved Regulations in the Delaware SIP
State regulation (7 DNREC 1100) | Title/subject | State effective date | EPA approval date | Additional explanation
* * * * * * *
1141 Limiting Emissions of Volatile Organic Compounds from Consumer and Commercial Products
* * * * * * *
Section 2.0 | Specific Emission Control Requirements | 4/11/09 | 10/20/10 [Insert page number where the document begins] | Adds the sale, distribution, and manufacturing of 23 categories of consumer products and product types.
* * * * * * *

* * * * *

[FR Doc. 2010-25314 Filed 10-19-10; 8:45 am]

BILLING CODE 6560-50-P